FEDERAL RESERVE SYSTEM

12 CFR Part 264a

Reserve Bank Directors-Actions and Responsibilities

AGENCY: Board of Governors of the Federal Reserve System (Board).

ACTION: Final Rule.

SUMMARY: The Board is removing 12 CFR 264a (Reserve Bank Directors-Actions and Responsibilities). The regulation has been superceded by a regulation of the Office of Government Ethics (Interpretation, Exemptions and Waiver Guidance Concerning 18 U.S.C. 208 (Acts Affecting A Personal Financial Interest)).

EFFECTIVE DATES: April 1, 2002.

FOR FURTHER INFORMATION CONTACT: Cary K. Williams, Assistant General Counsel, Legal Division (202/452-3295) or Bryan A. Bonner, Senior Attorney, Legal Division (202/452-3719). For users of the Telecommunications Device for the Deaf (TDD)only, please call 202/263-4869.

SUPPLEMENTARY INFORMATION:

Background

18 U.S.C. 208(a) prohibits an officer or employee of the executive branch, of any independent agency of the United States, of the District of Columbia, or Federal Reserve bank director, officer, or employee, or any special Government employee from participating in an official capacity in particular matters in which he/she has a personal financial interest, or in which certain persons or organization with which he/she is affiliated have a financial interest. 18 U.S.C. 208 (b) permits waivers of the disqualification provision in certain cases, either on an individual basis or pursuant to general regulation. 12 CFR 264a was promulgated for the purpose of assuring preservation of and adherence to the intent of both the Federal Reserve Act and section 208 of title 18, United States Code, as it applies to directors of Federal Reserve Banks, to include the prohibitions and waiver criteria set out in 18 U.S.C. 208(a) & (b).

5 CFR 2640 was promulgated after 12 CFR 264a. 5 CFR 2640 identifies those financial interests which, by regulation, may be exempt from the general prohibitions set out in 18 U.S.C. 208 (a). 5 CFR 2640 also provides interpretation of the 18 U.S.C. 208 (a) prohibitions, as well as guidance to agencies on the factors to consider when issuing individual waivers under 18 U.S.C. 208 (b). 12 CFR 264a is superceded by 5 CFR 2640. Accordingly, the Board is removing it.

List of Subjects in 12 CFR Part 264a

Federal Reserve System

Authority and Issuance

PART 264a - RESERVE BANK DIRECTORS-ACTIONS AND RESPONSIBILITIES [Removed and Reserved]

For the reasons set forth in the preamble, under the authority of 18 U.S.C. 208, the Board is removing and reserving part 264a in chapter II of title 12 of the Code of Federal Regulations.

By order of the Secretary of the Board, acting pursuant to delegated authority for the Board of Governors of the Federal Reserve System, March 26, 2002.
Jennifer J. Johnson
Secretary of the Board.

[FR Doc. 02-7660 Filed 3-29-02; 8:45 am]

BILLING CODE 6210-01-S